DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic Amacan K800—400/358XG-S submersible pumps (4 each), and Amacan K800—401/506XG-S submersible pumps (2 each) for rehabilitation of two pump stations in the State of Michigan.

DATES: The effective date of the waiver is December 6, 2012.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic Amacan K800—400/358XG-S submersible pumps (4 each), and Amacan K800—401/506XG-S submersible pumps (2 each) for rehabilitation of two pump stations in the State of Michigan.

In accordance with Title I, Division C, section 122 of the “Consolidated and Further Continuing Appropriations Act, 2012” (Pub. L. 112-55), the FHWA published a notice of intent to issue a waiver on its Web site for Amacan K800—400/358XG-S submersible pumps (4 each), and Amacan K800—401/506XG-S submersible pumps (2 each) (http://www.fhwa.dot.gov/construction/contracts/waivers.cfm?id=75) on May 16th. The FHWA received five comments in response to the publication. One commenter supports the waiver if there is no American made pump. Miami Pump and Supply Company requested that the Michigan DOT (MDOT) should contact them for specifications of the pump. The MDOT contacted Miami Pump and Supply and provided specifications for the pumps. Miami Pump and Supply determined that they were unable to meet the pump specifications. Three other commenters indicated that the specifications for the pumps should be changed to accommodate American made pumps. However, MDOT is unable to utilize other types of pumps due to the unique circumstances involved with this project.

During the 15-day comment period, the FHWA conducted additional nationwide review to locate potential domestic manufacturers of Amacan K800—400/358XG-S submersible pumps (4 each), and Amacan K800—401/506XG-S submersible pumps (2 each) for rehabilitation of two pump stations in the State of Michigan. The National Institute of Standards and Technology—Manufacturing Extension Partnership also conducted supplier scouting on submersible pumps and reported that there were no domestic matching items for the pumps. Based on all the information available to the agency, the FHWA concludes that there are no domestic manufacturers of Amacan K800—400/358XG-S submersible pumps (4 each), and Amacan K800—401/506XG-S submersible pumps (2 each).

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to Michigan waiver page noted above.

Authority: 23 U.S.C. 313; Pub. L. 110-161, 23 CFR 635.410).

Issued on: November 28, 2012.
Victor M. Mendez,
Administrator.

[FR Doc. 2012-29328 Filed 12-4-12; 8:45 am]

BILLING CODE 4910-22-P